DEPARTMENT OF DEFENSE

Department of the Army

Notice of Availability of the Record of Decision (ROD) for Base Realignment and Closure (BRAC) and Other Army Actions at Fort Lee and Fort A.P. Hill, VA

AGENCY: Department of the Army, DoD.

ACTION: Record of Decision (ROD).

SUMMARY: The Department of the Army announces the availability of a ROD which summarizes the decision for implementing realignment actions as directed by the BRAC Commission at Fort Lee, Virginia and related actions at Fort A.P. Hill, Virginia.

ADDRESSES: To obtain a copy of the ROD please contact Ms. Carol Anderson, IMNE-LEE-PWE, 1816 Shop Road, Fort Lee, Virginia 23801-1604; E-mail address: CRMLee@lee.army.mil.

FOR FURTHER INFORMATION CONTACT: Ms. Anderson (Fort Lee) at (804) 734-5071, or Ms. Terry Banks (Fort A.P. Hill) at (804) 633-8223, during normal business hours Monday through Friday.

SUPPLEMENTARY INFORMATION: The Army has decided to proceed with implementing the Proposed Action consistent with the analysis in the Environmental Impact Statement (EIS) (February 2007), supporting studies and comments provided during formal comment and review periods. The Proposed Action includes construction, renovation, and operation of proposed facilities to accommodate incoming military missions at Fort Lee. To implement the BRAC recommendations, Fort Lee will be receiving personnel, equipment, and missions from various closure and realignment actions within the Department of Defense. To implement the BRAC Commission recommendations, the Army will provide the necessary facilities, buildings, and infrastructure to support the establishment of a Sustainment Center of Excellence, a Joint Center for Consolidated Transportation Management Training, and a Joint Center of Excellence for Culinary Training at Fort Lee; locate various offices of the Defense Contract Management Agency Headquarters at Fort Lee; and receive all components of the Defense Commissary Agency at Fort Lee. Additionally, facilities will be installed or constructed at Fort A.P. Hill to accommodate field training exercises and leadership skills training for Student Soldiers at Fort Lee. The No Action Alternative would not meet the Army's purpose and need for the Proposed Action as the BRAC realignment is required by Congress and needed for Army transformation to be effective.

Special considerations was given to the effect of the Proposed Action on natural resources, cultural resources, traffic and the Petersburg National Battlefield. All practicable means to avoid or minimize environmental harm from the selected alternative have been adopted. The Army will minimize effects on all environmental and socioeconomic resources by implementing best management practices as described in the EIS. Mitigation measures, as described in the ROD, will be implemented (subject to the availability of funding) to minimize, avoid, or compensate for the adverse effects identified in the EIS at Fort Lee and Fort A.P. Hill for the following: Aesthetic and visual resources, noise, water resources, biological resources, cultural resources, and socioeconomics. The EIS identifies transportation projects that could eliminate adverse impacts from implementing the Proposed Action. The ROD describes the disposition of these projects and the approach the Army will take to mitigate traffic concerns. The ROD determines that implementing the Proposed Action reflects a proper balance between initiatives for protection of the environment, appropriate mitigation, and actions to achieve the Army's requirements.

An electronic version of the ROD can be viewed or downloaded from the following Web site: http://www.hqda.army.mil/acsim/brac/nepa_eis_docs.htm.

Dated: May 25, 2007.
H.E. Wolfe,
Acting Principal Assistant Deputy Assistant Secretary of the Army. (Environment, Safety and Occupational Health)

[FR Doc. 07-2729 Filed 6-1-07; 8:45 am]

BILLING CODE 3710-08-M